DEPARTMENT OF HEALTH AND HUMAN SERVICES

Health Resources and Services Administration

National Vaccine Injury Compensation Program; List of Petitions Received

AGENCY: Health Resources and Services Administration (HRSA), Department of Health and Human Services (HHS).

ACTION: Notice.

SUMMARY: HRSA is publishing this notice of petitions received under the National Vaccine Injury Compensation Program (the Program), as required by the Public Health Service (PHS) Act, as amended. While the Secretary of HHS is named as the respondent in all proceedings brought by the filing of petitions for compensation under the Program, the United States Court of Federal Claims is charged by statute with responsibility for considering and acting upon the petitions.

FOR FURTHER INFORMATION CONTACT: For information about requirements for filing petitions, and the Program in general, contact Lisa L. Reyes, Clerk of Court, United States Court of Federal Claims, 717 Madison Place NW, Washington, DC 20005, (202) 357-6400. For information on HRSA's role in the Program, contact the Director, National Vaccine Injury Compensation Program, 5600 Fishers Lane, Room 8W-25A, Rockville, Maryland 20857; (301) 443-6593, or visit our website at: http://www.hrsa.gov/vaccinecompensation/index.html.

SUPPLEMENTARY INFORMATION: The Program provides a system of no-fault compensation for certain individuals who have been injured by specified childhood vaccines. Subtitle 2 of title XXI of the PHS Act, 42 U.S.C. 300aa-10 et seq., provides that those seeking compensation are to file a petition with the United States Court of Federal Claims and to serve a copy of the petition to the Secretary of HHS, who is named as the respondent in each proceeding. The Secretary has delegated this responsibility under the Program to HRSA. The Court is directed by statute to appoint special masters who take evidence, conduct hearings as appropriate, and make initial decisions as to eligibility for, and amount of, compensation.

A petition may be filed with respect to injuries, disabilities, illnesses, conditions, and deaths resulting from vaccines described in the Vaccine Injury Table (the Table) set forth at 42 CFR 100.3. This Table lists for each covered childhood vaccine the conditions that may lead to compensation and, for each condition, the time period for occurrence of the first symptom or manifestation of onset or of significant aggravation after vaccine administration. Compensation may also be awarded for conditions not listed in the Table and for conditions that are manifested outside the time periods specified in the Table, but only if the petitioner shows that the condition was caused by one of the listed vaccines.

Section 2112(b)(2) of the PHS Act, 42 U.S.C. 300aa-12(b)(2), requires that “[w]ithin 30 days after the Secretary receives service of any petition filed under section 2111 the Secretary shall publish notice of such petition in the Federal Register.” Set forth below is a list of petitions received by HRSA on April 1, 2024, through April 30, 2024. This list provides the name of the petitioner, city, and state of vaccination (if unknown then the city and state of the person or attorney filing the claim), and case number. In cases where the Court has redacted the name of a petitioner and/or the case number, the list reflects such redaction.

Section 2112(b)(2) also provides that the special master “shall afford all interested persons an opportunity to submit relevant, written information” relating to the following:

1. The existence of evidence “that there is not a preponderance of the evidence that the illness, disability, injury, condition, or death described in the petition is due to factors unrelated to the administration of the vaccine described in the petition,” and

2. Any allegation in a petition that the petitioner either:

a. “[S]ustained, or had significantly aggravated, any illness, disability, injury, or condition not set forth in the Vaccine Injury Table but which was caused by” one of the vaccines referred to in the Table, or

b. “[S]ustained, or had significantly aggravated, any illness, disability, injury, or condition set forth in the Vaccine Injury Table the first symptom or manifestation of the onset or significant aggravation of which did not occur within the time period set forth in the Table but which was caused by a vaccine” referred to in the Table.

In accordance with Section 2112(b)(2), all interested persons may submit written information relevant to the issues described above in the case of the petitions listed below. Any person choosing to do so should file an original and three (3) copies of the information with the Clerk of the United States Court of Federal Claims at the address listed above (under the heading “For Further Information Contact”), with a copy to HRSA addressed to Director, Division of Injury Compensation Programs, Health Systems Bureau, 5600 Fishers Lane, 8W-25A, Rockville, Maryland 20857. The Court's caption (Petitioner's Name v. Secretary of HHS) and the docket number assigned to the petition should be used as the caption for the written submission. Chapter 35 of title 44, United States Code, related to paperwork reduction, does not apply to information required for purposes of carrying out the Program.

Carole Johnson,
Administrator.

List of Petitions Filed

1. Marvin Walker, Red Level, Alabama, Court of Federal Claims No: 24-0487V

2. Ronald Moore, Camden, New Jersey, Court of Federal Claims No: 24-0490V

3. Michael Koldobskiy, Baltimore, Maryland, Court of Federal Claims No: 24-0491V

4. April Rogers on behalf of E. R., Clinton, Mississippi, Court of Federal Claims No: 24-0492V

5. Shailendra Jain, Santa Clara, California, Court of Federal Claims No: 24-0497V

6. Kathleen MCHALE on behalf of L. M., Avon, Ohio, Court of Federal Claims No: 24-0499V

7. Tonya Johnson, Tappahannock, Virginia, Court of Federal Claims No: 24-0501V

8. John Lynn Stedje, Guymon, Oklahoma, Court of Federal Claims No: 24-0503V

9. Gail Sanders, New Rochelle, New York, Court of Federal Claims No: 24-0504V

10. Deirdre Guest, Southampton, New York, Court of Federal Claims No: 24-0505V

11. Michelle Papa, Charlotte, North Carolina, Court of Federal Claims No: 24-0507V

12. Kerry Janike, Lincoln, Nebraska, Court of Federal Claims No: 24-0509V

13. Lily Hobi, West Linn, Oregon, Court of Federal Claims No: 24-0512V

14. Kimberley Cabbell, Staunton, Virginia, Court of Federal Claims No: 24-0514V

15. Melissa Fisk, Grant, Michigan, Court of Federal Claims No: 24-0518V

16. Gerald Schuch, Kenosha, Wisconsin, Court of Federal Claims No: 24-0526V

17. Scarlet Gardner, Asheville, North Carolina, Court of Federal Claims No: 24-0527V

18. Jeffrey Butwinick, Eagan, Minnesota, Court of Federal Claims No: 24-0528V

19. Chad Brandon, Naples, Florida, Court of Federal Claims No: 24-0531V

20. Monica Young, Oak View, California, Court of Federal Claims No: 24-0534V

21. Sara Schara, Sherburne, New York, Court of Federal Claims No: 24-0541V

22. Dajuan Deshazer, Boscobel, Wisconsin, Court of Federal Claims No: 24-0544V

23. Stuart Murphy, Hesperia, California, Court of Federal Claims No: 24-0545V

24. Traci Weiss on behalf of A. W., San Diego, California, Court of Federal Claims No: 24-0546V

25. Daniel Hait, Oconomowoc, Wisconsin, Court of Federal Claims No: 24-0548V

26. Jean Logan, Jacksonville, Florida, Court of Federal Claims No: 24-0549V

27. Emma Piske, Plaquemine, Louisiana, Court of Federal Claims No: 24-0552V

28. Jason Altschuler, Jasper, Georgia, Court of Federal Claims No: 24-0555V

29. Kyle Williams, Denver, Colorado, Court of Federal Claims No: 24-0556V

30. Cassandra Lynn, Los Angeles, California, Court of Federal Claims No: 24-0560V

31. William Feehan, Chicago, Illinois, Court of Federal Claims No: 24-0561V

32. Latronda Coble, Savannah, Georgia, Court of Federal Claims No: 24-0563V

33. Joe Sinicropi, Riverside, California, Court of Federal Claims No: 24-0565V

34. Cynthia Reyes, Seattle, Washington, Court of Federal Claims No: 24-0566V

35. Miranda Rogers, Dallas, Texas, Court of Federal Claims No: 24-0569V

36. Patricia Cotton, Stamford, Connecticut, Court of Federal Claims No: 24-0573V

37. Jennifer Gagliardi, Springfield, Vermont, Court of Federal Claims No: 24-0575V

38. Robert Reidinger, Sewell, New Jersey, Court of Federal Claims No: 24-0576V

39. Rlanda Bellamy, Little River, South Carolina, Court of Federal Claims No: 24-0577V

40. Patricia Ryder, Boston, Massachusetts, Court of Federal Claims No: 24-0582V

41. Kartik Ramakrishnan on behalf of M. R., Chicago, Illinois, Court of Federal Claims No: 24-0583V

42. Jenny Schroth and Jeffrey Robert Schroth on behalf of D. S., Appleton, Wisconsin, Court of Federal Claims No: 24-0585V

43. Holly C. Nelson, Stratford, Connecticut, Court of Federal Claims No: 24-0586V

44. Jason Miller, Napoleonville, Louisiana, Court of Federal Claims No: 24-0587V

45. Sheri Blake, Fayetteville, Arkansas, Court of Federal Claims No: 24-0589V

46. Donna Marin, Louisville, Kentucky, Court of Federal Claims No: 24-0591V

47. John Sproul, Ypsilanti, Michigan, Court of Federal Claims No: 24-0599V

48. Karen Mangold, Charlotte, North Carolina, Court of Federal Claims No: 24-0601V

49. Bonnie McClelland, Tyler, Texas, Court of Federal Claims No: 24-0605V

50. Stanka Vujovic, Englewood, New Jersey, Court of Federal Claims No: 24-0607V

51. Patricia Romero, Mountain View, California, Court of Federal Claims No: 24-0608V

52. Nick McGuire, Oxnard, California, Court of Federal Claims No: 24-0609V

53. Sterling Conley, Sarasota, Florida, Court of Federal Claims No: 24-0610V

54. Rene Ahern, Kirkland, Washington, Court of Federal Claims No: 24-0611V

55. Kelly Kennedy, Maryville, Tennessee, Court of Federal Claims No: 24-0615V

56. Kent A. Stensrud, Madison, Minnesota, Court of Federal Claims No: 24-0616V

57. Crystal Green, Kennewick, Washington, Court of Federal Claims No: 24-0621V

58. Aimee Sher on behalf of C. S., St. Louis, Missouri, Court of Federal Claims No: 24-0626V

59. Justine Guillen, Los Angeles, California, Court of Federal Claims No: 24-0627V

60. Brian Weiser, Chicago, Illinois, Court of Federal Claims No: 24-0628V

61. Garrett Keuer, Lubbock, Texas, Court of Federal Claims No: 24-0629V

62. Dennis Geary, Mount Pleasant, Pennsylvania, Court of Federal Claims No: 24-0631V

63. William Mayfield, San Antonio, Texas, Court of Federal Claims No: 24-0632V

64. Nicola Tognara, Phoenix, Arizona, Court of Federal Claims No: 24-0633V

65. Mary A. Walker-Jackson, Philadelphia, Pennsylvania, Court of Federal Claims No: 24-0635V

66. Ronald Shelk, Chicago, Illinois, Court of Federal Claims No: 24-0636V

67. Bahaeldin Hussein, Falls Church, Virginia, Court of Federal Claims No: 24-0638V

68. Jamie Fletcher and Aaron Fletcher on behalf of G. F., Ellsworth, South Dakota, Court of Federal Claims No: 24-0640V

69. Karen Maghirang on behalf of M. M., Camden, Missouri, Court of Federal Claims No: 24-0641V

70. Ann Heinrichs, Chicago, Illinois, Court of Federal Claims No: 24-0643V

71. Pamela Kahn, Boston, Massachusetts, Court of Federal Claims No: 24-0644V

72. Nancy Smacchi, Wilkes-Barre, Pennsylvania, Court of Federal Claims No: 24-0649V

73. Mahya Sheikhzadeh, San Jose, California, Court of Federal Claims No: 24-0650V

74. Mary Curry, Missoula, Montana, Court of Federal Claims No: 24-0651V

75. Raleigh Gharbi on behalf of A. G., Navarre, Florida, Court of Federal Claims No: 24-0652V

76. Vergie Tate-Singleton, Flossmoor, Illinois, Court of Federal Claims No: 24-0653V

77. Sheila Flynn, Roseville, Minnesota, Court of Federal Claims No: 24-0658V

78. Karen Ranieri on behalf of I. R., Boston, Massachusetts, Court of Federal Claims No: 24-0659V

79. Gail Mitchell, McDonough, Georgia, Court of Federal Claims No: 24-0660V

80. Benson Kravtin, Brooklyn, New York, Court of Federal Claims No: 24-0661V

81. Jessica Massie, Marathon, Florida, Court of Federal Claims No: 24-0662V

82. Gary Mahana, Toms River, New Jersey, Court of Federal Claims No: 24-0664V

83. Laura Missiha, Houston, Texas, Court of Federal Claims No: 24-0666V

84. Jacopo Vecchiato, Kirkland, Washington, Court of Federal Claims No: 24-0667V

85. Alicia M. Urbas, Holly Springs, North Carolina, Court of Federal Claims No: 24-0668V

86. Jennifer Mccorkle, Harrisburg, Pennsylvania, Court of Federal Claims No: 24-0669V

87. Mark Lanese on behalf of Christine Lanese, Deceased, Aventura, Florida, Court of Federal Claims No: 24-0674V

88. Mandy Dols, Moose Lake, Minnesota, Court of Federal Claims No: 24-0675V

89. Symentha Chambers, Houston, Texas, Court of Federal Claims No: 24-0677V

90. Loretta Jackson, Chandler, Arizona, Court of Federal Claims No: 24-0678V

91. Brandon Mason, Boscobel, Wisconsin, Court of Federal Claims No: 24-0679V

92. Marta Ubiles, Allentown, Pennsylvania, Court of Federal Claims No: 24-0680V

93. Mark Engle, Chewelah, Washington, Court of Federal Claims No: 24-0681V

94. Valerie McClure, Rice Lake, Wisconsin, Court of Federal Claims No: 24-0682V

95. Debra White, Wheat Ridge, Colorado, Court of Federal Claims No: 24-0685V

96. Veta Wholey, Fredericksburg, Virginia, Court of Federal Claims No: 24-0686V

97. Mark Counts, Warren, Michigan, Court of Federal Claims No: 24-0688V

98. Breia Weiland on behalf of B. W., Phoenix, Arizona, Court of Federal Claims No: 24-0689V

99. Julie Boudrie, Monroe, Michigan, Court of Federal Claims No: 24-0690V

[FR Doc. 2024-15817 Filed 7-17-24; 8:45 am]

BILLING CODE 4165-15-P